DEPARTMENT OF DEFENSE

Department of the Army; Corps of Engineers

Intent To Prepare a Supplemental Environmental Impact Statement for the Limited Reevaluation Report 1,750-Acre Bottomland Acquisition, Fourche Bayou Basin, Little Rock, AR

AGENCY: Department of the Army, U.S. Army Corps of Engineers, DOD.

ACTION: Notice of intent.

SUMMARY: Pursuant to the National Environmental Policy Act (NEPA), the U.S. Army Corps of Engineers, DOD, Little Rock District will prepare an Environmental Impact Statement (EIS) for the Limited Reevaluation Report (LRR) 1,750-Acre Bottomland Acquisition, Fourche Bayou Basin, Little Rock, AR.

The purpose of the EIS will be to present alternatives and assess the impacts associated with purchase development of 1,750 acres of bottomland hardwoods habitat known as Fourche Bottoms as well as development of a nature appreciation facility. Solutions will focus on protecting the Fourche Bottoms from urban development in the surrounding area. Proposed improvements resulting from the study could impact (positively or negatively) recreation, flood control, and fish and wildlife along the Fourche Bottoms in central Arkansas. The EIS will evaluate potential impacts (beneficial and adverse) to the natural, physical, and human environment as a result of implementing any of the proposed project alternatives that may be developed during the EIS process.

FOR FURTHER INFORMATION CONTACT: Questions or comments concerning the proposed action should be addressed to: Ms. Tricia Anslow, Chief, Environmental Section, Planning Branch, P.O. Box 867, Little Rock, AR 72203-0867, telephone (501) 324-5032, e-mail: Patricia.M.Anslow@usace.army.mil.

SUPPLEMENTARY INFORMATION:

1. Background: The Fourche Bottoms is a unique and valuable component to the surrounding urban environment. It serves as a natural filtration system, flood retention basin, and wetland habitat home to numerous diverse species.

2. Study History: The congressional authority to initiate this study was written in Section 401(a) of the Water Resources Development Act of 1986. The initial EIS and Record of Decision was completed in 1989.

3. Comment/Scoping Meeting: Interested parties are requested to express their views concerning the proposed activity. The public is encouraged to provide written comments. To be most helpful, scoping comments should clearly describe specific environmental topics or issues, which the commentator believes the document should address. Comments received as a result of this notice and the news releases will be used to assist the preparers in identifying potential impacts to the quality of the human or natural environment. Affected local, state, or Federal agencies, affected Indian Tribes, and other interested private organizations and parties may participate in the scoping process by forwarding written comments to the above noted address. Interested parties may also request to be included on the mailing list for public distribution of meeting announcements and documents.

4. Alternatives: Alternatives will be evaluated against the No-Action alternative. Alternatives may include alternate location of facilities and trails.

5. Availability of the Draft Supplemental EIS: The draft supplemental EIS is anticipated to be available for public review in the summer of 2003.

Luz D. Ortiz,
Army Federal Register Liaison Officer.

[FR Doc. 03-15577 Filed 6-19-03; 8:45 am]

BILLING CODE 3710-57-M